DEPARTMENT OF ENERGY

Federal Energy Regulatory Commission

[Docket No. ER01-1060-000, et al.]

Southern Company Services, Inc., et al.; Electric Rate and Corporate Regulation Filings

January 31, 2001.

Take notice that the following filings have been made with the Commission:

1. Southern Company Services, Inc.

[Docket No. ER01-1060-000]

Take notice that on January 26, 2001, Southern Company Services, Inc. (SCS), acting on behalf of Alabama Power Company, Georgia Power Company, Gulf Power Company, Mississippi Power Company, and Savannah Electric and Power Company (collectively referred to as Southern Company), tendered seven (7) long term firm point-to-point transmission service agreements between Southern Company and Carolina Power and Light Company, Duke Power Company, The Energy Authority, Entergy Services Inc., as agent for the Entergy operating companies, Oglethorpe Power Corporation, Sempra Energy Trading Corp. (Sempra) (for OASIS Request 191679); and Sempra (for OASIS Request 191684); three (3) umbrella agreements for short-term firm point-to-point transmission service between Southern Company and Amerada Hess Corporation (Amerada), DTE Energy Trading, Inc. (DTE), and North Carolina Municipal Power Agency Number 1 (NCMPA); and three (3) umbrella agreements for non-firm point-to-point transmission service between Southern Company and Amerada, DTE, and NCMPA under the Open Access Transmission Tariff of Southern Company (FERC Electric Tariff, Fourth Revised Volume No. 5).

Comment date: February 16, 2001, in accordance with Standard Paragraph E at the end of this notice.

2. AES NewEnergy, Inc.

[Docket No. ER01-1061-000]

Take notice that on January 26, 2001, AES NewEnergy, Inc. (AES NewEnergy), tendered for filing a notice of termination pursuant to Section 18.3 of the California Power Exchange Corporation (PX) FERC Electric Service Tariff No. 2 (PX Tariff) that was accepted by the Commission to be effective immediately, relating to AES NewEnergy's termination of its Participation Agreement with the PX.

Comment date: February 16, 2001, in accordance with Standard Paragraph E at the end of this notice.

3. AES Placerita, Inc.

[Docket No. ER01-1062-000]

Take notice that on January 26, 2001, AES Placerita, Inc. (AES Placerita), tendered for filing a notice of termination pursuant to Section 18.3 of the California Power Exchange Corporation (PX) FERC Electric Service Tariff No. 2 (PX Tariff) that was accepted by the Commission to be effective immediately, relating to AES Placerita's termination of its Participation Agreement with the PX.

Comment date: February 16, 2001, in accordance with Standard Paragraph E at the end of this notice.

4. Xcel Energy Services, Inc.

[Docket No. ER01-1063-000]

Take notice that on January 26, 2001, Xcel Energy Services Inc. (XES), on behalf of Public Service Company of Colorado (Public Service), tendered for filing a Long Term Firm Point-to-Point Transmission Service Agreement between Public Service and WestPlains Energy under Xcel's Joint Open Access Transmission Service Tariff.

XES requests that this agreement, designated as Original Service Agreement No. 102-PSCo under the Joint OATT, Original Volume No. 2, pursuant to Order No. 614, become effective on January 12, 2001.

Comment date: February 16, 2001, in accordance with Standard Paragraph E at the end of this notice.

5. Midwest Energy, Inc.

[Docket No. ER01-1064-000]

Take notice that on January 26, 2001, Midwest Energy, Inc. (Midwest), tendered for filing with the Federal Energy Regulatory Commission a Transaction Service Agreement entered into between Midwest and Kansas Municipal Energy Agency.

Midwest states that it is serving copies of the instant filing to its customers, State Commissions and other interested parties.

Comment date: February 16, 2001, in accordance with Standard Paragraph E at the end of this notice.

6. Western Resources, Inc.

[Docket No. ER01-1065-000]

Take notice that on January 26, 2001, Western Resources, Inc. (WR), tendered for filing a Service Agreement between WR and Missouri River Energy System (MRES). WR states that the purpose of this agreement is to permit EKPC to take service under WR' Market Based Power Sales Tariff on file with the Commission.

This agreement is proposed to be effective December 1, 2000.

Copies of the filing were served upon MRES and the Kansas Corporation Commission.

Comment date: February 16, 2001, in accordance with Standard Paragraph E at the end of this notice.

7. American Electric Power Service Corporation

[Docket No. ER01-1066-000]

Take notice that on January 26, 2001, the American Electric Power Service Corporation (AEPSC), tendered for filing six service agreements with Enron Power Marketing, Inc., Nevada Power Company and New Energy Ventures, L.L.C. for transactions exceeding one year in length by the AEP Companies under the Wholesale Market Tariff of the AEP Operating Companies (Power Sales Tariff). The Power Sales Tariff was accepted for filing effective October 10, 1997 and has been designated AEP Operating Companies' FERC Electric Tariff Original Volume No. 5.

AEPSC respectfully requests waiver of notice to permit these service agreements to be made effective on or prior to January 1, 2001.

A copy of the filing was served upon the Parties and the State Utility Regulatory Commissions of Arkansas, Indiana, Kentucky, Louisiana, Michigan, Ohio, Oklahoma, Tennessee, Texas, Virginia and West Virginia.

Comment date: February 16, 2001, in accordance with Standard Paragraph E at the end of this notice.

8. American Transmission Company LLC

[Docket No. ER01-1067-000]

Take notice that on January 26, 2001, American Transmission Company LLC (ATCLLC), tendered for filing a Network Operating Agreement and a Network Integration Service Agreement between ATCLLC and Rock County Electric Cooperative Association.

ATCLLC requests an effective date of January 1, 2001.

Comment date: February 16, 2001, in accordance with Standard Pargraph E at the end of this notice.

9. American Transmission Company LLC

[Docket No. ER01-1068-000]

Take notice that on January 26, 2001, American Transmission Company LLC (ATCLLC), tendered for filing a Network Operating Agreement and Network Integration Transmission Service Agreement between ATCLLC and Wisconsin Power and Light Company.

ATCLLC requests an effective date of January 1, 2001.

ATCLLC requests an effective date of January 1, 2001.

Comment date: February 16, 2001, in accordance with Standard Paragraph E at the end of this notice.

10. American Transmission Company LLC

[Docket No. ER01-1069-000]

Take notice that on January 26, 2001, American Transmission Company LLC (ATCLLC), tendered for filing four Short-Term Firm and Non-Firm Point-to-Point Transmission Service Agreements between ATCLLC and the City of Columbia, MO and Manitowoc Public Utilities.

Comment date: February 16, 2001, in accordance with Standard Paragraph E at the end of this notice.

11. Southwest Power Pool, Inc.

[Docket No. ER01-1070-000]

Take notice that on January 26, 2001, Southwest Power Pool, Inc. (SPP), tendered for filing an executed service agreement for Firm Point-to-Point Transmission Service with Aquila Energy Marketing Corporation (Aquila).

SPP seeks an affective date of January 1, 2001 for this service agreement.

A copy of this filing was served on Aquila.

Comment date: February 16, 2001, in accordance with Standard Paragraph E at the end of this notice.

12. Badger Windpower, LLC

[Docket No. ER01-1071-000]

Take notice that on January 26, 2001, Badger Windpower, LLC (Badger), tendered for filing an application for authorization to sell wholesale power at market-based rates. Badger also requested that the Commission accept for filing a long-term Renewable Power Purchase Agreement for the sale of power from Badgeer to Wisconsin Electric Power Company as a stand-alone rate schedule under its proposed market rate tariff. Badger has requested that this Market Rate Tariff and Reserve Power Purchase Agreement become effective upon commencement of service.

Copies of this filing has been served on the Public Service Commission of Wisconsin, Florida Public Service Commission, Arkansas Public Service Commission, Mississippi Public Service Commission, Louisiana Public Service Commission, Texas Public Utility Commission, and the Council of the City of New Orleans.

Comment date: February 16, 2001, in accordance with Standard Pargraph E at the end of this notice.

13. UtiliCorp United Inc.

[Docket No. ER01-1072-000]

Take notice that on January 26, 2001, UtiliCorp United Inc. (UtiliCorp), tendered for filing Service Agreement No. 106 under UtiliCorp's FERC Electric Tariff, Third Revised Volume No. 24, a network transmission service agreement between UtiliCorp's Missouri Public Service division and the City of El Dorado Springs, Missouri.

UtiliCorp requests an effective date for the service agreement of December 28, 2000.

Comment date: February 16, 2001, in accordance with Standard Pargraph E at the end of this notice.

14. Central Vermont Public Service Corporation

[Docket No. ER01-1073-000]

Take notice that on January 26, 2001, Central Vermont Public Service Corporation (Central Vermont or Company), tendered for filing executed Service Agreements for Firm Point-to-Point Transmission Service and Non-Firm Point-to-Point Transmission Service with The Legacy Energy Group, LLC, NRG Power Marketing, Inc. and Reliant Energy Services, Inc. under Central Vermont's FERC Electric Power, First Revised Volume No. 7.

Copies of the filing were served upon the above-mentioned companies and the Vermont Public Service Board.

Comment date: February 16, 2001, in accordance with Standard Paragraph E at the end of this notice.

15. Wolverine Power Supply Cooperative, Inc.

[Docket No. ER01-286-001]

Take notice that on January 26, 2000, Wolverine Power Supply Cooperative, Inc. (Wolverine), tendered for filing a revised Wolverine Open Access Transmission Tariff to comply with the Commission's December 29, 2000 order in this docket.

Copies of the filing were served on Wolverine's four wholesale power customers and the Michigan Public Service Commission.

Comment date: February 16, 2001, in accordance with Standard Paragraph E at the end of this notice.

16. American Electric Power Service Corporation

[Docket No. ER01-257-002]

Take notice that on January 26, 2001, the American Electric Power Service Corporation (AEPSC), tendered for filing an Amendment to Filing in Docket No. ER01-257-000. In AEPSC's initial filing on October 25, 2000, AEPSC failed to provide designations for a Transaction Confirmation Agreement (Confirmation Agreement) which was submitted for filing by the AEP Companies in the above referenced docket. Pursuant to the Commissions' Order No. 614, AEPSC respectfully designates the Confirmation Agreement with the City of Vernon, California as Service Agreement No. 277 under the Wholesale Market Tariff of the AEP Operating Companies (Power Sales Tariff). The Power Sales Tariff was accepted for filing effective October 10, 1997, and has been designated AEP Companies' FERC Electric Tariff Original Volume No. 5.

AEPSC respectfully requests waiver of notice to permit this the Confirmation Agreement to be made effective as initially requested on or prior to October 1, 2000.

A copy of the filing was served upon the Parties and the State Utility Regulatory Commissions of Arkansas, Indiana, Kentucky, Louisiana, Michigan, Ohio, Oklahoma, Tennessee, Texas, Virginia and West Virginia.

Comment date: February 16, 2001, in accordance with Standard Paragraph E at the end of this notice.

17. TXU Energy Trading Company

[Docket No. ER99-3333-004]

Take notice that on January 29, 2001, TXU Energy Trading Company (TXU ET), tendered for filing a report concerning change of status and an updated market power analysis in connection with TXU ET's market-based rate authority.

Comment date: February 20, 2001, in accordance with Standard Paragraph E at the end of this notice.

18. PECO Energy Company, Susquehanna Electric Company, PECO Energy Power Company

[Docket No. ER00-803-002]

Take notice that on January 26, 2001, Exelon Generation Company, L.L.C., Susquehanna Electric Company, and PECO Energy Power Company; (PEPCo), tendered for filing a compliance filing consisting of a revised amendment to an agreement of lease between themselves and PECO Energy Company (PECO) designated as PEPCo's Rate Schedule FPC No. 2, to be effective on January 12, 2001.

Copies of this filing were served on PECO.

Comment date: February 16, 2001, in accordance with Standard Paragraph E at the end of this notice.

19. PECO Energy Company

[Docket No. ER00-803-003]

Take notice that on January 26, 2001, PECO Energy Company (PECO), tendered for filing a compliance filing consisting of corrected sheets to fourteen Interconnection Agreement between PECO and Exelon Generation Company, L.L.C. (ExGen) or its subsidiary Susquehanna Electric Company (SECO) designated as PECO's Rate Schedules FERC No. 124-133 and 135-138, to be effective on 12 January 2001.

Copies of this filing were served on ExGen, the Pennsylvania Public Utility Commission and parties on the service list in this docket.

Comment date: February 16, 2001, in accordance with Standard Paragraph E at the end of this notice.

20. AES Mohave, LLC

[Docket No. EG01-107-000]

Take notice that on January 25, 2001, AES Mohave, LLC (AES Mohave) filed with the Federal Energy Regulatory Commission an application for determination of exempt wholesale generator status pursuant to part 365 of the Commission's regulations. AES Mohave intends to purchase certain undivided interests in the Mohave project, a 1,580 megawatt coal-fired power plant, located at the southern tip of Clark County, Nevada.

Comment date: February 21, 2001, in accordance with Standard Paragraph E at the end of this notice. The Commission will limit its consideration of comments to those that concern the adequacy or accuracy of the application.

21. GenPower McIntosh, LLC

[Docket No. EG01-106-000]

Take notice that on January 25, 2001, GenPower McIntosh, LLC (Applicant), a Delaware limited liability company, whose address is 1040 Great Plain Avenue, Needham, MA, filed with the Federal Energy Regulatory Commission an application for determination of exempt wholesale generator status pursuant to Part 365 of the Commission's regulations.

Applicant intends to construct an approximate 529 MW natural gas-fired combined cycle independent power production facility (which output may increase to 595 MW under certain conditions) in Effingham County, Georgia (the Facility). The Facility is currently under development and will be owned by Applicant. Electric energy produced by the Facility will be sold by Applicant to the wholesale power market in the southern United States.

Comment date: February 21, 2001, in accordance with Standard Paragraph E at the end of this notice. The Commission will limit its consideration of comments to those that concern the adequacy or accuracy of the application.

22. San Gorgonio Power Corporation, Mountain View Power Partners, LLC and SeaWest WindPower, Inc.

[Docket No. EC01-61-000]

Take notice that on January 26, 2001, San Gorgonio Power Corporation (San Gorgonio), Mountain View Power Partners, LLC (Mountain View) and SeaWest WindPower, Inc. (SeaWest) tendered for filing an application for approval pursuant to section 203 of the Federal Power Act for a proposed transaction whereby San Gorgonio will acquire a 100 percent ownership interest in Mountain View. Mountain View is constructing a 44.4 MW wind power generating plant (Project) located in the San Gorgonio Pass of Riverside County, California, which is expected to begin producing test power for sale on or about February 15, 2001. Mountain View is currently wholly-owned by SeaWest. Pursuant to an acquisition agreement, the transaction would be consummated after the Project commences commercial operation, which is expected to occur by May 1, 2001. The transaction is expected to result in the disposition of FERC-jurisdictional facilities, including Mountain View's market-based rate tariff and interconnection facilities connecting the Project to the transmission facilities of Southern California Edison Company.

A copy of this Application was served upon the California Public Utilities Commission and the Governor of the State of California.

Comment date: February 16, 2001, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.us/online/rims.htm (call 202-208-2222 for assistance).

David P. Boergers,
Secretary.

[FR Doc. 01-3033 Filed 2-5-01; 8:45 am]

BILLING CODE 6717-01-M